DEPARTMENT OF LABOR

Employment and Training Administration

Grants for Small Grassroots Organizations

AGENCY: Employment and Training Administration (ETA)/ Center for Faith-Based and Community Initiatives (CFBCI), Department of Labor.

ACTION: Notice of availability of funds and solicitation for grant applications (SGA). This notice contains all of the necessary information and forms needed to apply for grant funding (SGA/DFA 04-104).

Catalog of Federal Assistance No.: 17.257.

SUMMARY: The Employment and Training Administration (ETA), U.S. Department of Labor (DOL) announces the availability of $1,000,000 to award grants to eligible “grass-roots' organizations with the ability to connect to the local One-Stop delivery system. The term grassroots' is defined under the Eligibility Criteria.

DATES: Applications will be accepted commencing on April 6, 2004. The closing date for receipt of applications under this announcement is May 7, 2004. Applications must be received by 4 p.m. (e.s.t.) at the address below: No exceptions to the mailing and hand-delivery conditions set forth in this notice will be granted. Applications that do not meet the conditions set forth in this notice will not be honored. Telefacsimile (FAX) applications will not be honored.

SUPPLEMENTARY INFORMATION:

Part I. Authorities

These grants are made under the following authorities:

• The Workforce Investment Act of 1998 (WIA or the Act) (Pub. L. 105-220, 29 U.S.C. 2801 et seq.)

• The WIA Final Rule, 20 CFR parts 652, 660-671 (65 FR 49294 (August 11, 2000);

• Executive Order 13198; “Rallying the Armies of Compassion”

• Training and Employment Guidance Letter 17-01 (“Incorporating and Utilizing”

• Grassroots, Community-Based Organizations Including Faith-Based Organizations in Workforce Investment Activities and Programs”)

• Executive Order 13279; “Equal Protection of the Laws for Faith-Based and Community Organizations”

II. Funding Opportunity Description

A. Overview of the Workforce Investment Act

The Workforce Investment Act of 1998 (WIA) established a comprehensive reform of existing Federal job training programs with amendments impacting service delivery under the Wagner-Peyser Act, Adult Education and Literacy Act, and the Rehabilitation Act. A number of other Federal programs are also identified as required partners in the One-Stop delivery system to provide comprehensive services for all Americans to access the information and resources available that can help in the achievement of their career goals. The intention of the One-Stop system is to establish a network of programs and providers in co-located and integrated settings that are accessible for individuals and businesses alike in approximately 600 workforce investment areas established throughout the nation. There are currently over 1,900 comprehensive Centers and over 1,600 affiliated Centers across the United States. WIA established State and Local Workforce Investment Boards focused on strategic planning, policy development, and oversight of the workforce investment system, and accorded significant authority to the nation's Governors and local chief elected officials to further implement innovative and comprehensive delivery systems. The vision, goals and objectives for workforce development under the WIA decentralized system are fully described in the State strategic plan required under Section 112 of the legislation. This State strategic workforce investment plan—and the operational experience gained by all the partners to date in implementing the WIA-instituted reforms—help identify the important “unmet needs” and latent opportunities to expand access to One-Stop by all the population segments within the local labor market.

B. Administration Strategy

Engagement of Faith-Based and Community Organizations Under the Workforce Investment Act

On January 29, 2001, President George W. Bush issued Executive Order 13198, creating the Office for Faith-Based and Community Initiatives in the White House and centers in the departments of Labor, Health and Human Services (HHS), Housing and Urban Development (HUD), Education (ED), Justice (DOJ). President Bush charged the Cabinet centers with identifying statutory, regulatory, and bureaucratic barriers that stand in the way of effective faith-based and community initiatives, and to ensure, consistent with the law, that these organizations have equal opportunity to compete for federal funding and other support.

In early 2002, the Department's Center for Faith-Based and Community Initiatives (CFBCI) and ETA developed and issued Solicitations for Grant Applications (SGAs) to engage intermediary and grass-roots organizations in our workforce system-building. These SGAs were designed to involve the faith-based and community-based organizations in service delivery, strengthen their existing partnership with the local One-Stop delivery system, while providing additional points of entry for customers into that system.

These 2002 grants embodied the Department's principal strategy for implementing the Executive Order by creating new avenues through which qualified organizations can more fully participate under the Workforce Investment Act while applying their particular strengths and assets in service provision to our customers. These solicitations also proceeded from an ETA-CFBCI mutual premise: that the involvement of community-based organizations and faith-based organizations can both complement and supplement the efforts of local workforce investment systems in providing universal access and serving the training, job and career-support needs of many of our citizens.

Both ETA and CFBCI are committed to bringing new Intermediary and grass-roots organizations to workforce system-building through the issuance of a new solicitation in 2004. This new solicitation draws on “lessons learned” in 2002 and 2003 while introducing several “promising practices” introduced by other ETA grantees. The new solicitation also places significant emphasis on performance outcomes—documenting and quantifying the additional value the Intermediary and its sub-grantees bring to the One-Stop delivery system in the community.

Through this competition, ETA seeks to ensure that an important Workforce Investment Act tenet—universal access to the programs and services offered under WIA—is further rooted in the customer-responsive delivery systems already established by the Governors, local elected officials and local Workforce Investment Boards. ETA also reaffirms its continuing commitment to those customer-focused reforms instituted by State and local governments which help Americans access the tools they need to manage their careers through information and high quality services, and to help U.S. companies find skilled workers.

Faith-based and community-based organizations present strong credentials for full partnership in our mutual system-building endeavors. Faith-based and community-based organizations are trusted institutions within our poorest neighborhoods. Faith-based and community-based organizations are home to a large number of volunteers who bring not only the transformational power of personal relationships to the provision of social service but also a sustained allegiance to the well-being and self-sufficiency of the participants they serve. Through their daily work and specific programs, these organizations strive to achieve some common purposes shared with government—reduction of welfare dependency, attainment of occupational skills, entry and retention of all our citizens in good-paying jobs. Through this solicitation, ETA and CFBCI strive to leverage these programs, resources and committed staff into the workforce investment strategies already embodied in State and local strategic plans.

C. Project Objectives

The selected grantees will be expected to achieve the following objectives:

• Help individuals enter employment with career opportunities or increase skills and education, both through providing services such as education, pre and post job placement, mentoring, life skills training, employability skills training, job coaching, and through utilizing the services of the One-Stop Career Center.

• Expand the access of faith-based and community-based organizations' clients and customers to the training, job and career services offered by the local One-Stops;

• Effectively maximize the dollars invested by leveraging volunteer and in-kind donations;

• Thoroughly document the impact and outcomes of these grant investments through quarterly and annual reporting; and

• Establish methods and mechanisms to ensure sustainability of these partnerships and participation levels beyond the life of the grant.

III. Award Information

ETA has identified $1,000,000 from the FY 2004 appropriation for One-Stop/America's Labor Market Information System. The agency expects to award approximately 40-50 grants. The grant amount for each grass-roots organization is expected to range between $20,000 and $25,000. The period of performance will be approximately 18 months from the date of execution by the Department. The grant funds will be available for expenditure until June 30, 2006.

Anticipated Announcement and Award Dates

Announcement of this award is expected to occur by June 30, 2004.

IV. Eligibility Information

1. Eligible Applicants

For purposes of this announcement, eligible grassroots organizations must be non-profits which:

(1) Have social services as a major part of their mission;

(2) Are headquartered in the local community to which they provide these services;

(3) (a) Have an annual social services budget of $350,000 or less, or (b) Have 6 or fewer full-time equivalent employees.

Neutral, non-religious criteria that neither favor nor disfavor religion will be employed in the selection of grant recipients and must be employed by grantees or in the selection of sub-recipients.

The government is prohibited from providing direct financial assistance for inherently religious activity.* Therefore, as a general rule, subawards may not be used for religious instruction, worship, prayer, proselytizing or other inherently religious activities and participation in such activities must be voluntary. (If, however, an organization receives financial assistance as a result of the choice of a beneficiary, such as through a voucher, the organization may integrate religion throughout its program).

* In this context, the term financial assistance that is provided directly by a government entity or an intermediate organization, as opposed to financial assistance that an organization contexts, the term ‘direct’ financial assistance may be used to refer to financial assistance that an organization receives directly from the Federal government (also known as “discretionary” assistance), as opposed to assistance that it receives from a State or Local government (also known as “indirect” or “block” grant assistance). The term “direct” has the former meaning throughout this SGA.

Veterans Priority: In addition, this program is subject to the provisions of the “Jobs for Veterans Act”, Pub. L. 107-288, which provides priority of services to veterans and certain of their spouses in all Department of Labor funded job training programs. Please note that, to obtain priority of service, a veteran or spouse must meet the program's eligibility requirements. Comprehensive policy guidance is being developed and will be issued in the near future.

V. Application and Submission Information

1. Application Forms

Application forms will not be mailed. They are published as part of this Federal Register notice, which may be obtained from your nearest public library or online at http://www.archives.gov/federal_register/index.html.

2. Submission Date and Times

Applications will be accepted commencing on April 6, 2004. The closing date for receipt of applications under this announcement is May 7, 2004. Applications must be received by 4 p.m. (e.s.t.) at the address below: No exceptions to the mailing and hand-delivery conditions set forth in this notice will be granted. Applications that do not meet the conditions set forth in this notice will not be honored. Telefacsimile (FAX) applications will not be honored.

ADDRESSES: Applications must be mailed to the U.S. Department of Labor, Employment and Training Administration, Division of Federal Assistance, Attention: James Stockton, SGA/DFA 04-104, 200 Constitution Avenue, NW., Room S-4220, Washington, DC 20210. Telefacsimile (FAX) applications will not be accepted. Applicants are advised that mail in the Washington area may be delayed due to mail decontamination procedures.

FOR FURTHER INFORMATION CONTACT: James Stockton, Grants Officer, Division of Federal Assistance, Telephone (202) 693-3301 (this is not a toll free-number). You must specifically ask for James Stockton. Questions can also be faxed to James Stockton, Fax, (202) 693-2879, please include the SGA/DFA 04-104, a contact name, fax and phone numbers. This announcement will be also published on the Employment and Training Administration (ETA) Web page at http://www.doleta.gov/usworkforce. This Web page will also provide responses to questions that are raised by applicants during the period of grant application preparation. Award notifications will also be announced on this Web page.

Mailing and Hand Delivery Conditions

1. Late Applications. Any application received after the exact date and time specified for receipt at the office designated in this notice will not be considered, unless it is received before awards are made and it:

• Was sent by U.S. Postal Service registered or certified mail not later than May 6, 2004; or

• Was sent by U.S. Postal Service Express Mail Next Day Service, Post Office to addressee, not later than 4 p.m. at the place of mailing two working days before May 6, 2004. The term “working days” excludes weekends and U.S. Federal holidays. “Post-marked” means a printed, stamped or otherwise placed impression (exclusive of a postage meter machine impression) that is readily identifiable, without further action, as having been supplied or affixed on the date of mailing by an employee of the U.S. Postal Service.

2. Withdrawal of Applications. Applications may be withdrawn by written notice or telegram (including mailgram) received at any time before an award is made. Applications may be withdrawn in person by the applicant or by an authorized representative thereof, if the representative's identify is made known and the representative signs a receipt for the proposal.

3. Hand Delivered Proposals. It is preferred that applications be mailed at least five days before the closing date. To be considered for funding, hand-delivered applications must be received at the designated address by 4 p.m., (e.t.), May 7, 2004. All overnight mail will be considered to be hand delivered and must be received at the designated place by the specified closing date and time. Telegraphed, e-mailed and/or faxed proposals will not be honored. Failure to adhere to the above instructions will be a basis for determination of non-responsive.

4. Submission of Applications. Applicants must submit one copy with an original signature and two additional copies of their proposal. The Statement of Work must be limited to 5 pages. The only attachments permitted will be agreements with or letters of support from local Workforce Investment Boards and/or local One-Stop operators. The application must be double-spaced, and on single-sided, numbered pages. A font size of at least twelve (12) pitch is required with one-inch margins (top, bottom and sides.)

A. Required Contents

There are three required sections:

• Section I—Application for Federal Assistance (SF 424A)

• Section II—Budget Information (SF 424B)

• Section III—Technical Proposal—Statement of Work

Section I—Application for Federal Assistance

The SF-424A is included in the announcement as Attachment A. It must be signed by a representative authorized by the governing body of the applicant to enter into grant agreement.

Section II—Budget Information

The SF-424B is included in the announcement as Attachment B.

Note: Except as specifically provided, DOL/ETA acceptance of a proposal and an award of federal funds to sponsor any program(s) does not provide a waiver of any grant requirement and/or procedures. For example, the OMB circulars require that an entity's procurement procedures must require that all procurement transactions must be conducted, as practical, to provide open and free competition. If a proposal identifies a specific entity to provide the services, the DOL/ETA's award does not provide the justification or basis to sole-source the procurement, i.e., avoid competition.

Section III—Technical Proposal (Statement-of-Work) (Not To Exceed 5 Typed, Double Space Pages)

The Statement of Work sets forth a strategic plan for the use of awarded funds and establishes measurable goals for increasing organizational participation in the One-Stop service delivery system to more fully serve the clientele and members of community-based and faith-based organizations. Below are the required elements of the Statement of Work and the rating criteria that reviewers will use to evaluate the proposal.

1. Organizational History and Description of Community Need (15 Points)

• Describe the structure of the applicant's organization. Describe the history of the organization in meeting community needs including a brief listing of services provided.

• Describe the overall community need. What services will your organization provide to address a need that the One-Stop Career Center is not fully addressing? (This description should include coverage of population(s) to be served and the services to be provided. Populations could include such groups as: ex-offenders, immigrants, limited English-speaking, homeless and individuals with disabilities. Services can include, but are not limited to, such activities as: education, pre and post job placement mentoring, life skills training, employability skills training, and job coaching. Other populations and services can be identified.)

Rating Criteria

1. Does the description reflect a clear understanding of a community need?

2. Description of Partnerships and Linkages (20 Points)

• Please describe your plans to work as partners with the One-Stop Delivery system to help the target population enter and succeed in the workforce. If you have not previously worked with the One-Stop Career Center, please describe actions you have taken to develop the relationships as you developed this grant. If you have worked with the One-Stop Career Center, please describe what actions you have taken to further develop your relationship.

• Please describe the relationships you have with other non-profit organizations who provide similar or complementary services and how you will leverage pre-existing relationships and partnerships to help achieve your goals for the populations you will service and how you will avoid duplication.

Rating Criteria

1. Does the narrative describe an approach and process by which the organization will successfully partner with the One-Stop delivery system to address the unmet need?

2. Does the applicant present evidence of discussions with the One-Stop delivery system (e.g., a signed letter from the Local Board or other One-Stop delivery system principals)?

3. Does the organization's history of collaboration with other non-profits in the community support the conclusion that these grant activities will be successful?

3. Presentation of Strategic Plan, Goals, and Timeline (50 Points)

• The applicant should describe the methodology for providing services, including any educational or training curriculum or other tools to be used. Describe the staff/volunteer positions that will be providing services under this grant.

• The applicant must present a timeline of major, measurable tasks and activities to be undertaken. The timeline should include how many people will receive services and/or participate and complete classes detailed in the training curriculum.

• The applicant should also describe the measurable outcomes that the program participants will achieve over the life of this grant. Measurable outcomes must include how many participants will enter employment over the grant period and how many of those individuals will stay employed through the end of the grant period (retention) . Outcomes might also include such measures as how many participants will increase numeracy or literacy or enter an educational or training program or the average increase of wages for program participants. The Department understands that these outcomes will be achieved by bringing together the resources of the workforce system as well as the grantee.

Rating Criteria

1. Do the activities and tasks presented on the timeline appear to be achievable with the likelihood of project success given available resources?

2. Does the applicant provide tangible outcome measures and goals for success for both the organization and Department to gauge the impact of the activities on meeting the community need? Do these goals include tracking employment outcomes and retention outcomes for those served?

4. Description of Measurements of Success (15 Points)

• Describe what mechanisms you will develop, in partnership with the One-Stop delivery system, to track your success in achieving promised goals and outcomes.

• Describe any other methods you will use for evaluating your project's success.

Rating Criteria

1. Does the applicant reflect an understanding of what it would need to do in order to track progress and success?

Application Review Information

VII. Criteria, Review and Selection Process

A technical review panel will make careful evaluation of applications against the rating criteria. The review panel recommendations are advisory. The ETA grant officer will fully consider the panel recommendations and take into account geographic balance to ensure the most advantageous award of these funds to accomplish the system-building purposes outlined in the Summary and Statement of Work. The grant officer may consider any information that comes to his or her attention. The grant officer reserves the right to award without negotiation. The criteria above will serve as the basis upon which submitted applications will be evaluated.

Section IV. Reporting Requirements

The grantee is required to provide the reports and documents listed below:

Quarterly Financial Reports. A Quarterly Financial Status Report (SF-269) is required until such time as all funds have been expended or the period of availability has expired. Quarterly reports are due 30 days after the end of each calendar year quarter. Grantee must use ETA's On-line Electronic Reporting System.

Progress Reports. The grantee must submit a quarterly financial and narrative performance progress report to the Federal Project Officer within 30 days following each quarter. Two copies are to be submitted providing a detailed account of activities undertaken during that quarter.

Part VIII. Resources for the Applicant

The Department of Labor maintains a number of Web-based resources that may be of assistance to applicants. The Web page for the Department's Center for Faith-Based & Community Initiatives (http://www.dol.gov/cfbci) is a valuable source of background on this initiative. America's Service Locator (http://www.servicelocator.org) provides a directory of our nation's One-Stop Career Centers. The National Association of Workforce Boards maintains a Web page (http://www.nawb.org/asp/wibdir.asp) which contains contact information for the State and local Workforce Investment boards. Applicants are encouraged to review “Understanding the Department of Labor Solicitation for Grant Applications and How to Write an Effective Proposal” (http://www.dol.gov/cfbci/sgabrochure.htm). “Questions and Answers” regarding this solicitation will be posted and updated on the Web (http://www.doleta.gov/usworkforce). For a basic understanding of the grants process and basic responsibilities of receiving Federal grant support, please see “Guidance for Faith-Based and Community Organizations on Partnering with the Federal Government (http://www.fbci.gov).

Signed at Washington, DC, this 31st day of March, 2004.
James W. Stockton,
Grant Officer.

Attachments:

Appendix A—SF-424

Appendix B—Budget Form

Appendix C—Survey of Ensuring Equal Opportunity for Applicants

BILLING CODE 4510-30-P

[FR Doc. 04-7658 Filed 4-5-04; 8:45 am]

BILLING CODE 4510-30-C